BUREAU OF CONSUMER FINANCIAL PROTECTION

12 CFR Part 1081

[Docket No. CFPB-2018-0002]

Request for Information Regarding Bureau Rules of Practice for Adjudication Proceedings

AGENCY: Bureau of Consumer Financial Protection.

ACTION: Request for information; extension of comment period.

SUMMARY: On February 5, 2018, the Bureau of Consumer Financial Protection (Bureau) published a Request for Information Regarding Bureau Rules of Practice for Adjudication Proceedings (RFI), which provided that comments must be received on or before April 6, 2018. On February 22, 2018, the Bureau received a letter from two industry trade associations requesting a 30-day comment period extension for this RFI and for two other Bureau Requests for Information. The additional time is requested in order to allow commenters to develop meaningful responses to the RFI and the other identified Requests for Information. The Bureau believes the extension will allow all stakeholders the opportunity to provide more robust responses. In response to this request, the Bureau has determined that a 30 day extension of the comment period is appropriate.

DATES: The comment period for the Request for Information Regarding Bureau Rules of Practice for Adjudication Proceedings, published February 5, 2018, at 83 FR 5055 has been extended. Comments must now be received on or before May 7, 2018.

ADDRESSES: You may submit responsive information and other comments, identified by Docket No. CFPB-2018-0002, by any of the following methods:

• Electronic: Go to http://www.regulations.gov. Follow the instructions for submitting comments.

• Email: FederalRegisterComments@cfpb.gov. Include Docket No. CFPB-2018-0002 in the subject line of the message.

• Mail: Comment Intake, Consumer Financial Protection Bureau, 1700 G Street NW, Washington, DC 20552.

• Hand Delivery/Courier: Comment Intake, Consumer Financial Protection Bureau, 1700 G Street NW, Washington, DC 20552.

Instructions: The Bureau encourages the early submission of comments. All submissions must include the document title and docket number. Please note the number of the topic on which you are commenting at the top of each response (you do not need to address all topics). Because paper mail in the Washington, DC area and at the Bureau is subject to delay, commenters are encouraged to submit comments electronically. In general, all comments received will be posted without change to http://www.regulations.gov. In addition, comments will be available for public inspection and copying at 1700 G Street NW, Washington, DC 20552, on official business days between the hours of 10 a.m. and 5 p.m. eastern time. You can make an appointment to inspect the documents by telephoning 202-435-7275.

All submissions in response to this request for information, including attachments and other supporting materials, will become part of the public record and subject to public disclosure. Proprietary information or sensitive personal information, such as account numbers or Social Security numbers, or names of other individuals, should not be included. Submissions will not be edited to remove any identifying or contact information.

FOR FURTHER INFORMATION CONTACT: Mark Samburg, Counsel, at 202-435-9710. If you require this document in an alternative electronic format, please contact CFPB_Accessibility@cfpb.gov.

SUPPLEMENTARY INFORMATION: The Consumer Financial Protection Act of 2010 (Act) required the Bureau to prescribe rules establishing such procedures as may be necessary to carry out hearings and adjudications conducted pursuant to 12 U.S.C. 5563. 12 U.S.C. 5563(e). On July 28, 2011, the Bureau published an interim final rule seeking comment and prescribing rules establishing such hearings and procedures, with the exception of rules relating to the issuance of a temporary cease-and-desist order (TCDO) pursuant to section 1053(c) of the Act. 76 FR 45338 (July 28, 2011). The Bureau responded to comments received and published a final rule on June 29, 2012. 77 FR 39058 (June 29, 2012). This rule was codified at 12 CFR part 1081, subparts A-D. The Bureau published an interim final rule seeking comment and prescribing rules on TCDOs on September 26, 2013. 78 FR 59163 (Sept. 26, 2013). The Bureau received a single comment on this rule. Following consideration of the comment, the Bureau adopted the interim final rule without change on June 18, 2014. 79 FR 34622 (June 18, 2014). This rule was codified at 12 CFR part 1081, subpart E. Collectively, the rules codified at 12 CFR part 1081 are titled “Rules of Practice for Adjudication Proceedings” (Rules). The Bureau issued a Request for Information (RFI) related to the Rules on February 5, 2018, 83 FR 5055, and now extends the period for comments responding to that RFI.

Authority: 12 U.S.C. 5511(c).

Dated: March 16, 2018.
Mick Mulvaney,
Acting Director, Bureau of Consumer Financial Protection.

[FR Doc. 2018-05780 Filed 3-21-18; 8:45 am]

BILLING CODE 4810-AM-P